DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Methods for Reducing Tumor Growth and Metastasis by Inhibiting MCP-1 Activity

WJ Murphy, JJ Oppenheim, and R Salcedo (all of NCI)

Serial No. 60/205,757 filed 19 May 2000

Licensing Contact: Susan S. Rucker; 301/496-7056 ext. 245; e-mail: ruckers@od.nih.gov

This application relates to methods for the inhibition of tumor growth and metastasis. The inhibition of tumor growth and metastasis is based on the demonstration that certain inhibitors of the chemokine MCP-1 (monocyte chemotactic protein 1 also known as JE) inhibit angiogenesis in in vitro and in vivo model systems. In addition, methods for identifying other inhibitors are described. In addition to this application the NIH has other intellectual property related to MCP-1 which is available for license, including U.S. Patents 5,714,578, 5,532,144, 5,179,078, 5,212,073 and 5,278,287.

This work has been published, in part in Blood 96(1): July 1, 2000.

The Use of an Inducible Plasmid Vector Encoding for Active TGF-β for the Treatment of Autoimmune Diseases

A Kitani, I Fuss, K Nakamura and W Strober(NIAID)

DHHS Reference No. E-096-00/0 filed 20 Apr 2000

Licensing Contact: Susan S. Rucker; 301/496-7056 ext. 245; e-mail: ruckers@od.nih.gov

This application describes a composition and method for treating inflammatory bowel disease or other autoimmune diseases. The composition utilizes a vector which contains a first promoter which controls the expression of a regulatory transcription factor and a second inducible promoter which controls the expression of the gene of interest. The preferred gene of interest encodes an isoform of TGF-β such as TGF-β1 or TGF-β3. The isoform of TGF-β does not have to be hTGF-β and can be a latent or active isoform of TGF-β. The preferred inducible promoter is TRE-CMV which can be induced using doxycycline. The usefulness of the composition for treating autoimmune diseases is demonstrated in the application in a murine model of inflammatory bowel disease in which intestinal inflammation was abrogated by the administration of a plasmid vector encoding active TGF-β. The composition may be administered by a variety of delivery systems and intranasal delivery is exemplified.

Serum Free Medium

F Luyten, L Erhlacher (NIDCR)

Serial No. 09/468,562 filed 21 Dec 1999

Licensing Contact: Susan S. Rucker; 301/496-7056 ext. 245; e-mail: ruckers@od.nih.gov

The technology described and claimed in this application relates to the development of a serum-free medium which is particularly useful for the culture, both growth and expansion, of chondrocytes. More particularly, the medium allows chondrocytes to maintain their cartilaginous phenotype. Chondrocytes cultured in this medium may be used to repair joints having cartilage damage from diseases such as rheumatoid arthritis.

This work has been published, in part, at L Erhlacher, et al. “Presence of cartilage-derived morphogenetic proteins in articular cartilage and enhancement of matrix replacement in vitro” Arthritis Rheum. 1998 Feb;41(2):263-73. The material found in the patent application has been published as WO 98/59035 (Dec 30, 1998).

PHS also owns additional intellectual property, related to cartilage derived morphogenetic proteins 1 and 2 (CDMP-1/GDF5 and CDMP-2/GDF6) which may be used in conjunction with this technology. The work related to CDMP-1 and CDMP-2 has been published as WO 96/14335 (May 17, 1996) and at originally at Chang, et al., “Cartilage-derived morphogenetic proteins. New members of the transforming growth factor-beta superfamily predominantly expressed in long bones during human embryonic development” J Biol Chem. 1994 Nov 11;269(45):28227-34.

Mutant of RAD51 Gene and Its Use in the Diagnosis of Predisposition to Breast Cancer

Jeffery P. Struewing, Weiching Wang (NCI)

DHHS Reference No. E-231-99/0 filed 10 Sep 1999

Licensing Contact: Vasant Gandhi; 301/496-7056 ext. 224; e-mail: gandhiv@od.nih.gov

This invention relates to a mutant of the RAD51 gene and its use in diagnosing individuals predisposed to breast cancer involving BRCA1 and/or BRCA2. The mutant contains a guanine-to-cytosine transversion at nucleotide position 135 in the 5′ untranslated region of the RAD51 gene. The invention relates to the nucleotide sequence of the mutant RAD51 gene, associated vector constructs and host cells, and diagnostic methods. Epidemiological and in vitro biochemical characterization studies are in progress.

Dated: July 31, 2000.
Jack Spiegel,
Director, Division of Technology Development and Transfer, Office of Technology Transfer, National Institutes of Health.

[FR Doc. 00-20036 Filed 8-8-00; 8:45 am]

BILLING CODE 4140-01-P